DEPARTMENT OF THE INTERIOR

Bureau of Land Management

[AZ-060-00-1430-ES; AZA 31252]

Notice of Realty Action; Bureau Motion; Recreation and Public Purposes (R&PP) Act Classification; Arizona

AGENCY: Bureau of Land Management, Interior.

ACTION: Notice.

SUMMARY: The following public lands in Pima County, Arizona have been examined and found suitable for classification for lease or conveyance to the Pima County Board of Supervisors, a political subdivision, under the provisions of the Recreation and Public Purposes Act, as amended (43 U.S.C. 869 et seq.). The Pima County Board of Supervisors proposes to use the lands for a recreational park.

Gila and Salt River Meridian, Arizona

T. 15 S., R. 12 E.,

Sec. 7, lots 5 to 20, inclusive.

The area described contains 80.43 acres.

This action is a motion by the Bureau of Land Management to make available lands identified and designated as disposal lands under the Safford District Resource Management Plan, dated August 1991, and are not needed for Federal purposes. Lease or conveyance is consistent with current BLM land use planning and would be in the public interest. Detailed information concerning this action is available for review at the Bureau of Land Management, Tucson Field Office, 12611 East Broadway, Tucson, Arizona.

The lease/patent when issued will be subject to the following terms, conditions and reservations:

1. Provisions of the Recreation and Public Purposes Act and to all applicable regulations of the Secretary of the Secretary of the Interior.

2. A right-of-way for ditches and canals constructed by the authority of the United States.

3. All minerals shall be reserved to the United States together with the right to prospect for, mine and remove the minerals.

4. A right-of way under the Act of February 15, 1901; 31 Stat. 90; 43 U.S.C. 959 for powerline purposes granted to Tucson Electric Power Company (PHX 080650).

5. A right-of way under the Act of October 21, 1976; 90 Stat. 2776; 43 U.S.C. 1761 for road purposes granted in accordance with the transportation plan for Pima County to Pima County Transportation and Flood Control (AZA 18432).

6. All valid existing rights documented on the official public land records at the time of lease/patent issuance.

Detailed information concerning this action is available for review at the Bureau of Land Management, Tucson Field Office, 12661 East Broadway, Tucson, Arizona. Upon publication of this notice in the Federal Register, the lands will be segregated from all other forms of appropriation under the public land laws, including the general mining laws, except for lease or conveyance under the Recreation and Public Purposes Act and leasing under the mineral leasing laws. For a period of 45 days from the date of publication of this notice in the Federal Register, interested persons may submit comments regarding the proposed lease/conveyance or classification of the lands to the Field Manager, Tucson Field Office, 12661 East Broadway, Tucson, Arizona 85748.

Classification Comments: Interested persons may submit comments involving the suitability of the land for a public park. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a public park.

Any adverse comments will be reviewed by the State Director. In the absence of any adverse comments, the classification will become effective 60 days from the date of publication of this notice in the Federal Register.

Dated: August 10, 2000.
Jesse J. Juen,
Field Office Manager.

[FR Doc. 00-21653 Filed 8-23-00; 8:45 am]

BILLING CODE 4310-32-M